OVERSEAS PRIVATE INVESTMENT CORPORATION

Submission for OMB Review; Comments Request

AGENCY: Overseas Private Investment Corporation (OPIC).

ACTION: Notice and request for comments.

SUMMARY: Under the provisions of the Paperwork Reduction Act (44 U.S.C. Chapter 35), agencies are required to publish a Notice in the Federal Register notifying the public that the agency has prepared an information collection for OMB review and approval and has requested public review and comment on the submission. OPIC received no comments in response to the sixty (60) day notice published in Federal Register volume 76, number 229, page 73740 on November 29, 2011. The purpose of this notice is to allow an additional thirty (30) days for public comments to be submitted. Comments are being solicited on the need for the information; the accuracy of the Agency's burden estimate; the quality, practical utility, and clarity of the information to be collected; and ways to minimize the reporting burden, including automated collected techniques and uses of other forms of technology.

DATES: Comments must be received within thirty (30) calendar-days of publication of this Notice. OPIC plans to implement this form in Fall 2012.

ADDRESSES: Copies of the subject form may be obtained from the Agency Submitting Officer.

FOR FURTHER INFORMATION CONTACT: OPIC Agency Submitting Officer: Essie Bryant, Record Manager, Overseas Private Investment Corporation, 1100 New York Avenue NW., Washington, DC 20527; (202) 336-8563.

Summary Form Under Review

Type of Request: Revised form.

Title: Request for Registration for Political Risk Insurance.

Form Number: OPIC-50.

Frequency of Use: Once per investor per project.

Type of Respondents: Business or other institution (except farms); individuals.

Standard Industrial Classification Codes: All.

Description of Affected Public: U.S. companies or citizens investing overseas.

Reporting Hours: 125 hours (30 minutes per response).

Number of Responses: 250 per year.

Federal Cost: $6,301.25

Authority for Information Collection: Sections 231, 234(a), 239(d), and 240A of the Foreign Assistance Act of 1961, as amended.

Abstract (Needs and Uses): The application is the principal document used by OPIC to determine the investor's and the project's eligibility for political risk insurance and collect information for underwriting analysis.

Dated: January 20, 2012.
Nichole Cadiente,
Administrative Counsel, Administrative Affairs, Department of Legal Affairs.

[FR Doc. 2012-1707 Filed 1-26-12; 8:45 am]

BILLING CODE M